DEPARTMENT OF THE INTERIOR

National Park Service

Environmental Impact Statement/General Management Plan; Channel Islands National Park, Ventura County, California; Notice of Intent To Expand Scope of the Environmental Impact Statement

SUMMARY: Pursuant to section 102(C) of the National Environmental Policy Act of 1969 (NEPA; 42 U.S.C. 4321, et seq.), and in accord with Council on Environmental Quality (CEQ) regulations including 40 CFR 1501.7, the National Park Service is expanding the scope of the Environmental Impact Statement (EIS) which is being prepared for the General Management Plan (GMP) for Channel Islands National Park. As part of this conservation planning effort, the EIS will include a wilderness study to determine if any portions of the park should be recommended for inclusion in the National Wilderness Preservation System as defined in the Wilderness Act of 1964. This new element will be included as part of the EIS currently in preparation. Accordingly this notice supplements and updates the original Notice of Intent published with regard to initiation of the GMP project in the Federal Register on November 8, 2001. As a result, the scope of the EIS will be expanded to include an evaluation of foreseeable effects associated with possible designation of wilderness within the park.

As noted previously, the GMP will establish the overall direction for the park, setting broad management goals for managing the area over the next 15 to 20 years. The GMP will prescribe desired resource conditions and visitor experiences that are to be achieved and maintained throughout the park. Based on the desired conditions, the GMP will outline what resource management and visitor activities, and what limited developments, that would be appropriate in the park. Among the topics that have been addressed thus far are ecosystem management, preservation of natural and cultural resources, landscape restoration, island access, road and trail systems, facility and staff needs, research needs, and education and interpretive efforts. A range of reasonable alternatives for managing the park, including “no-action” and “preferred” alternatives, will be developed through the planning process and included in the EIS. The EIS will evaluate the potential environmental consequences of all alternatives, and identify appropriate mitigation strategies. An “environmentally preferred” alternative will be identified, and any potential for unacceptable impacts or impairments to park values will also be disclosed.

Scoping Process: To facilitate full and complete conservation planning and analysis of environmental impact, the National Park Service (NPS) is gathering information relevant to the GMP/Wilderness Study and the associated EIS, and is obtaining new suggestions and relevant information from the public on the scope of issues to be addressed (comments previously provided to the planning team need not be re-submitted). In concert with local, state, tribal, and other federal agencies, consideration will also be made for cooperative management of resources outside park boundaries that affect the integrity of the park. Comments and participation in this final phase of the scoping process are encouraged. Persons not previously participating and now wishing to provide relevant information or comment about issues or concerns may do so as follows: written comments may be sent via regular mail to Channel Islands NP Planning Team, NPS-Denver Service Center, P.O. Box 25287, Denver, Colorado 80225 (or transmitted via the Internet at http://parkplanning.nps.gov). They may express their concerns at public meetings to be held in Santa Barbara and Ventura (to be scheduled during spring-summer, 2009). Finally, they may hand-deliver written comments to the park headquarters in Ventura, California. Before including your address, phone number, e-mail address, or other personal identifying information in your comment, you should be aware that your entire comment—including your personal identifying information—may be made publicly available at any time. While you can ask us in your comment to withhold your personal identifying information from public review, we cannot guarantee that we will be able to do so.

DATES: All written comments on the scope of the GMP/Wilderness Study/EIS must be postmarked, hand delivered, or electronically transmitted August 6, 2009. An update will also be posted on the project Web site.

SUPPLEMENTARY INFORMATION: As noted above, persons who previously submitted comments on the proposed GMP need not resubmit those comments. The NPS already is considering that input as planning continues. However, persons who have not previously submitted comments on the scope of the EIS, or who wish to submit additional comments related to consideration of the Wilderness Study are encouraged to do so.

Previously three public scoping sessions were held at Ventura, Santa Barbara, and Los Angeles during the week of November 12, 2001. Additional public meetings will be held during spring-summer, 2009, in Santa Barbara and Ventura to address the new wilderness study and to provide a GMP project update (a summary of all scoping results will also be available). The confirmed dates, times and locations of these meetings will be posted on the park's web site, announced via local and regional news media, or may be obtained by telephone at (805) 658-5730.

The conservation planning and environmental impact analysis supporting preparation of the GMP/Wilderness Study will be conducted as noted above in accord with requirements of NEPA, CEQ and other appropriate Federal regulations, and NPS Director's Order 12, Director's Order 41, and other NPS procedures and policies. For further information, please contact the Superintendent, Channel Islands National Park, 1901 Spinnaker Drive, Ventura, CA 93001-4354; telephone (805) 658-5730. General information about Channel Islands National Park is available on the Internet at http://www.nps.gov/chis.

Decision Process: Following final completion of the scoping phase and consideration of all public concerns and other agency comments, a Draft EIS and proposed GMP will be prepared and released for public review. The subsequent availability of the Draft EIS/GMP will be announced by Federal Register notice and in local and regional news media. As a delegated EIS, the official responsible for the final decision on the GMP is the Regional Director, Pacific West Region, National Park Service. Following approval of the GMP the official responsible for implementation will be the Superintendent, Channel Islands National Park.

Dated: February 19, 2009.
Jonathan B. Jarvis,
Regional Director, Pacific West Region.

[FR Doc. E9-7921 Filed 4-7-09; 8:45 am]

BILLING CODE